POSTAL SERVICE

Board of Governors; Sunshine Act Meeting

Board Votes To Close September 29, 2011, Meeting

By notation vote on September 19, 2011, a majority of the members of the Board of Governors of the United States Postal Service voted to hold and close to public observation a meeting to be held via teleconference on September 29, 2011. The Board determined that no earlier public notice was possible.

Items Considered

1. Strategic Issues.

2. Financial Matters.

3. Pricing.

4. Personnel Matters and Compensation Issues.

General Counsel Certification

The General Counsel of the United States Postal Service has certified that the meeting was properly closed under the Government in the Sunshine Act.

Contact Person for More Information

Requests for information about the meeting should be addressed to the Secretary of the Board, Julie S. Moore, at (202) 268-4800.

Julie S. Moore,
Secretary.

[FR Doc. 2011-24704 Filed 9-21-11; 4:15 pm]

BILLING CODE 7710-12-P